DEPARTMENT OF ENERGY

Federal Energy Regulatory Commission

[Project No. 3253-015]

Mad River Power Associates LP; Notice of Application Accepted for Filing and Soliciting Motions To Intervene and Protests

Take notice that the following hydroelectric application has been filed with the Commission and is available for public inspection.

a. Type of Application: Subsequent Minor License.

b. Project No.: 3253-015.

c. Date Filed: November 3, 2020.

d. Applicant: Mad River Power Associates (MRPA).

e. Name of Project: Campton Hydroelectric Project (project).

f. Location: On the Mad River in Grafton County, New Hampshire. The project occupies approximately 0.05 acre of federal land administered by the U.S. Forest Service.

g. Filed Pursuant to: Federal Power Act, 16 U.S.C. 791(a)-825(r).

h. Applicant Contact: Mr. Ian Clark, Mad River Power Associates, 1 Pepsi Way, Suite 6n75, Katonah, NY 10536; Phone at (914) 297-7645, or email at info@dichotomycapital.com.

i. FERC Contact: Amanda Gill, (202) 502-6773 or amanda.gill@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3253-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis.

l. Project Description: The project consists of: (1) A 22-foot-wide, 24-foot-high concrete intake structure located approximately 60 feet upstream of the U.S. Forest Service's Campton Dam on the east shoreline of the U.S. Forest Service's Campton Pond, that includes a 25-foot-long,13-foot-high trashrack with 1.75-inch clear bar spacing; (2) a 600-foot-long, 78-inch-diameter underground steel penstock that trifurcates into three 48-inch-diameter sections measuring 20 feet, 30 feet, and 43 feet in length, respectively; (3) a 43-foot-long, 30-foot-wide powerhouse located on the east side of the Mad River that contains a 167-kW Francis turbine-generator unit; (4) two 236-kW submersible Flygt turbine-generator units located outside of the powerhouse; (5) an approximately 55-foot-long, 40-foot-wide tailrace; (6) a 200-foot-long transmission line and a 33.5-kilovolt transformer that connects the generators to the electric grid; (7) an Atlantic salmon smolt bypass facility consisting of an 85-foot-long, 20-inch diameter cast iron pipe that empties into an 3.5-foot-deep plunge pool approximately 15 feet downstream of the dam; and (8) appurtenant facilities. The project creates an approximately 600-foot-long bypassed reach of the Mad River.

The current license requires: (1) Inflow to be discharged over the spillway to the bypassed reach during periods of non-generation or when inflow is less than 25 cfs; (2) a minimum flow of 4.5 cfs through the Atlantic salmon smolt bypass facility during periods of generation or when inflow is greater than 25 cfs; and (3) operation of the smolt bypass facility from mid-April to mid-June. The average annual generation of the project is currently approximately 1,170 megawatt-hours (MWh).

MRPA proposes to: (1) Continue operating the project in a run-of-release mode; (2) replace one of the 236-kW Flygt turbine-generator units with a new 340-kW Flygt turbine-generator unit, for a total installed capacity of 743 kW at the project; (2) release a minimum flow of 29 cfs or inflow, whichever is less, over the dam to the bypassed reach; and (3) close the existing smolt bypass facility. MRPA estimates that the average annual generation of the proposed project will be approximately 1,900 MWh.

m. A copy of the application is available for review via the Commission's website at http://www.ferc.gov using the “eLibrary” link. Enter the docket number, excluding the last three digits in the docket number field, to access the document (P-3253). For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: August 10, 2021.
Kimberly D. Bose,
Secretary.

[FR Doc. 2021-17515 Filed 8-13-21; 8:45 am]

BILLING CODE 6717-01-P